DEPARTMENT OF LABOR

Occupational Safety and Health Administration

29 CFR Parts 1910 and 1915

[Docket No. OSHA-S049-2006-0675 (formerly OSHA Docket No. S-049)]

RIN 1218-AB50

General Working Conditions in Shipyard Employment; Notice of Informal Public Hearing

AGENCY: Occupational Safety and Health Administration (OSHA), Department of Labor.

ACTION: Proposed rule; notice of informal public hearings.

SUMMARY: OSHA is announcing that the informal public hearing on the proposed rule on general working conditions in shipyard employment in Seattle, WA, will be held at the Renaissance Seattle Hotel.

DATES: OSHA will hold an informal public hearing in Seattle, WA, beginning at 9:30 a.m., October 21-22, 2008. If necessary, the hearing will continue on subsequent days at the same time and location.

ADDRESSES: The hearing will be held at the Renaissance Seattle Hotel, 515 Madison Street, Seattle, WA 98104.

Docket: To read or download background documents as well as comments and materials submitted in response to the proposed rule or at the informal public hearing in Washington, DC, go to Docket No. OSHA-S049-2006-0675 at http://www.regulations.gov, which is the Federal eRulemaking Portal.

All materials and submissions in the docket are listed in the http://www.regulations.gov index; however, some information (e.g., copyrighted material) is not publicly available to read or download through the Web page. All materials and submissions are available for public inspection and copying at the OSHA Docket Office, Room N-2625, U.S. Department of Labor, 200 Constitution Avenue, NW., Washington, DC; telephone (202) 693-2350. For information on reading or downloading materials in the docket and obtaining materials not available through the Web page, please contact the OSHA Docket Office during the Department of Labor's and OSHA Docket Office's normal business hours, 8:15 a.m. to 4:45 p.m., e.t.

Electronic copies of this Federal Register notice and the proposed rule are available at http://www.regulations.gov. This notice, the proposed rule, news releases, and other relevant information also are available at OSHA's Web page at http://www.osha.gov.

FOR FURTHER INFORMATION CONTACT: Press inquiries: Jennifer Ashley, Office of Communications, U.S. Department of Labor, Occupational Safety and Health Administration, Room N-3647, 200 Constitution Avenue, NW., Washington, DC 20210; telephone (202) 693-1999.

Technical information: Joseph Daddura, Director, Office of Maritime within the Directorate of Standards and Guidance, U.S. Department of Labor, Occupational Safety and Health Administration, Room N-3609, 200 Constitution Avenue, NW., Washington, DC 20210; telephone (202) 693-2086.

Hearings: Ms. Veneta Chatmon, Office of Communications, U.S. Department of Labor, Occupational Safety and Health Administration, Room N-3647, 200 Constitution Avenue, NW., Washington, DC 20210; telephone (202) 693-1999; e-mail chatmon.veneta@dol.gov.

SUPPLEMENTARY INFORMATION: OSHA will hold an informal public hearing on the proposed rule on general working conditions in shipyard employment on October 21-22, 2008, at the Renaissance Seattle Hotel, Seattle, WA. If necessary, the hearing will continue on subsequent days at the same time and location.

On December 20, 2007, OSHA published a proposed rule to update and revise the standards on general working conditions in shipyard employment (72 FR 72451). OSHA invited written comments and requests for hearings on the proposed rule. The deadline for submitting comments and hearing requests was March 19, 2008. OSHA received several hearing requests and published a Federal Register notice scheduling informal public hearings beginning September 9, 2008, in Washington, DC, and October 21, 2008, in Seattle, WA (73 FR 36823 (6/30/2008)). At that time, OSHA had not finalized the location of the hearing in Seattle, WA, and this notice announces that location.

Persons interested in participating at either hearing were required to file a notice of intention to appear by July 18, 2008, and, to submit advance written testimony by August 8, 2008, if they were requesting to testify for longer than 10 minutes. They do not need to resubmit. OSHA is not accepting additional requests to participate at the hearing in Seattle, WA.

OSHA emphasizes that hearings on proposed rules are open to the public; however, only individuals who have filed a timely notice of intention to appear may question witnesses and participate fully at the hearing. If time permits, and at the discretion of the administrative law judge presiding at the hearing, an individual who did not file a notice of intention to appear may be allowed to a present brief oral statement not exceeding 10 minutes at the end of the hearing.

Authority and Signature

Edwin G. Foulke, Jr., Assistant Secretary of Labor for Occupational Safety and Health, directed the preparation of this notice under the authority granted by Section 6(b) of the Occupational Safety and Health Act of 1970 (29 U.S.C. 655), Secretary of Labor's Order 5-2007 (72 FR 31160), and 29 CFR part 1911.

Signed at Washington, DC on this 15th day of September 2008.
Edwin G. Foulke, Jr.,
Assistant Secretary of Labor for Occupational Safety and Health.

[FR Doc. E8-21931 Filed 9-18-08; 8:45 am]

BILLING CODE 4510-26-P